ENVIRONMENTAL PROTECTION AGENCY

[EPA-HQ-RCRA-2016-0071; FRL-9942-81-OLEM]

Proposed Information Collection Request; Comment Request; Recordkeeping and Reporting—Solid Waste Disposal Facilities and Practices

AGENCY: Environmental Protection Agency.

ACTION: Notice.

SUMMARY: The Environmental Protection Agency is planning to submit an information collection request (ICR), Recordkeeping and Reporting—Solid Waste Disposal Facilities and Practices; “(EPA ICR No. 1381.11, OMB Control No. 2050-0122) to the Office of Management and Budget (OMB) for review and approval in accordance with the Paperwork Reduction Act (44 U.S.C. 3501 et seq.). Before doing so, EPA is soliciting public comments on specific aspects of the proposed information collection as described below. This is a proposed extension of the ICR, which is currently approved through May 31, 2016. An Agency may not conduct or sponsor and a person is not required to respond to a collection of information unless it displays a currently valid OMB control number.

DATES: Comments must be submitted on or before April 25, 2016.

ADDRESSES: Submit your comments, referencing Docket ID No. EPA-HQ-RCRA-2015-0682 referencing the Docket ID numbers provided for each item in the text, online using www.regulations.gov (our preferred method), by email to rcra-docket@epa.gov or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Craig Dufficy, Materials Recovery and Waste Management Division, Office of Resource Conservation and Recovery, Mail Code 5304P, Environmental Protection Agency, 1200 Pennsylvania Ave. NW., Washington, DC 20460; telephone number: (703) 308-9037; fax number: (703) 308-8686; email address: dufficy.craig@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: In order to effectively implement and enforce final changes to 40 CFR part 258 on a State level, owners/operators of municipal solid waste landfills have to comply with the final reporting and recordkeeping requirements. Respondents include owners or operators of new municipal solid waste landfills (MSWLFs), existing MSWLFs, and lateral expansions of existing MSWLFs. The respondents, in complying with 40 CFR part 258, are required to record information in the facility operating record, pursuant to § 258.29, as it becomes available. The operating record must be supplied to the State as requested until the end of the post-closure care period of the MSWLF. The information collected will be used by the State Director to confirm owner or operator compliance with the regulations under Part 258. These owners or operators could include Federal, State, and local governments, and private waste management companies. Facilities in NAICS codes 9221, 5622, 3252, 3251 and 3253 may be affected by this rule.

Form Numbers: None.

Respondents/affected entities: Business or other for-profit, as well as State, Local, and Tribal governments.

Respondent's obligation to respond: Mandatory, see 40 CFR part 258.29.

Estimated number of respondents: 3,800.

Frequency of response: On occasion.

Total estimated burden: 204,808 hours (per year). Burden is defined at 5 CFR 1320.03(b).

Total estimated cost: $2,211,000 (per year), includes $1,831,00 annualized capital or operation & maintenance costs.

Changes in Estimates: There is increase of 60 hours in the total estimated respondent burden compared with the ICR currently approved by OMB. This increase is due to the increased number of states adopting the RD&D section (258.4) since the last ICR update.

Dated: February 12, 2016.
Barnes Johnson,
Director, Office of Resource Conservation and Recovery.

[FR Doc. 2016-03744 Filed 2-22-16; 8:45 am]

BILLING CODE 6560-50-P